DEPARTMENT OF TRANSPORTATION

Federal Aviation Administration

14 CFR Part 39

[Docket No. 98-ANE-39-AD; Amendment 39-12668; AD 2002-04-11]

RIN 2120-AA64

Airworthiness Directives; General Electric Company GE90 Series Turbofan Engines

AGENCY: Federal Aviation Administration, DOT.

ACTION: Final rule.

SUMMARY: This amendment supersedes an existing airworthiness directive (AD), applicable to certain General Electric Company (GE) GE90 series turbofan engines, that currently requires revisions to the Life Limits Section of the manufacturer's Instructions for Continued Airworthiness (ICA) to include required enhanced inspection of selected critical life-limited parts at each piece-part exposure. This action modifies the airworthiness limitations section of the manufacturer's manual and an air carrier's approved continuous airworthiness maintenance program to incorporate additional inspection requirements. This amendment is prompted by additional focused inspection procedures that have been developed by the manufacturer. The actions specified by this AD are intended to prevent critical life-limited rotating engine part failure, which could result in an uncontained engine failure and damage to the airplane.

DATES: Effective date April 8, 2002.

ADDRESSES: The information referenced in this AD may be examined, by appointment, at the Federal Aviation Administration (FAA), New England Region, Office of the Regional Counsel, 12 New England Executive Park, Burlington, MA.

FOR FURTHER INFORMATION CONTACT: Ian Dargin, Aerospace Engineer, Engine Certification Office, FAA, Engine and Propeller Directorate, 12 New England Executive Park, Burlington, MA 01803-5299; telephone (781) 238-7178, fax (781) 238-7199.

SUPPLEMENTARY INFORMATION: A proposal to amend part 39 of the Federal Aviation Regulations (14 CFR part 39) by superseding (AD) 2000-08-10, Amendment 39-11696 (65 FR 21642, April 24, 2000), that is applicable to General Electric GE90 series turbofan engines was published in the Federal Register on October 10, 2001 (66 FR 51607). That action proposed to modifiy the airworthiness limitations section of the manufacturer's manual and an air carrier's approved continuous airworthiness maintenance program to incorporate additional inspection requirements.

Comments

Interested persons have been afforded an opportunity to participate in the making of this amendment. No comments were received on the proposal or the FAA's determination of the cost to the public. The FAA has determined that air safety and the public interest require the adoption of the rule as proposed.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11696 (65 FR 21642, April 24, 2000), and by adding a new airworthiness directive, Amendment 39-12668 to read as follows:

AD 2002-04-11 General Electric Company: Docket No. 98-ANE-39-AD. Supersedes AD 2000-08-10, Amendment 39-11696.

Applicability

This airworthiness directive (AD) is applicable to General Electric Company (GE) GE90-76B/ -77B/ -85B/ -90B/ -94B series turbofan engines. These engines are installed on but not limited to Boeing 777 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Compliance with this AD is required as indicated, unless already done.

To prevent critical life-limited rotating engine part failure, which could result in an uncontained engine failure and damage to the airplane, do the following:

Inspections

(a) Within 30 days after the effective date of this AD, revise the manufacturer's Life Limits Section of the Instructions for Continued Airworthiness (ICA), and for air carrier operations revise the approved continuous airworthiness maintenance program, by adding the following:

“MANDATORY INSPECTIONS

(1) Perform inspections of the following parts at each piece-part opportunity in accordance with the instructions provided in the applicable manual provisions:

Part nomenclature | Part no. (P/N) | Inspect per engine manual chapter
For GE90 Engines:
HPCR Disk, Stage 1 | All | 72-31-05-200-001-001 Fluorescent Penetrant Inspection (subtask 72-31-05-230-051), and 72-31-05-200-001-001 Eddy Current Inspection of the Bore, and 72-31-05-200-001-001 Eddy Current Inspection of the Dovetail Slots.
HPCR Spool, Stage 2-6 | All | 72-31-06-200-001-001 Fluorescent Penetrant Inspection (subtask 72-31-06-230-051), and 72-31-06-200-001-001 Eddy Current Inspection of the S2 Dovetail Slots.
HPCR, Disk, Stage 7 | All | 72-31-07-200-001-001 Fluorescent Penetrant Inspection (subtask 72-31-07-230-051), and 72-31-07-200-001-001 Eddy Current Inspection (subtask 72-31-07-250-051 or 72-31-07-230-052 or 72-31-07-230-053.
HPCR Spool, Stage 8-10 | All | 72-31-08-200-001-001 Fluorescent Penetrant Inspection and 72-31-08-800-001 Eddy Current Inspection of the stage 8-9 inertia weld.
HPCR Seal, Compressor Discharge Pressure | All | 72-31-09-200-001-001 Fluorescent Penetrant Inspection (subtask 72-31-09-230-051), and 72-31-09-200-001-001 Eddy Current Inspection of the Boltholes.
HPCR Ring, Tube Supporter | All | 72-31-10-200-001-001 Fluorescent Penetrant Inspection.
HPTR, Interstage Seal | All | 72-53-03-200-001-001 Fluorescent Penetrant Inspection (subtask 72-53-03-230-053), and 72-53-03-200-001-001 Eddy Current Inspection of the Bore.
Fan Disk, Stage 1 | All | 72-21-03-200-001-001 Fluorescent Penetrant Inspection (subtask 72-21-03-230-051), and 72-21-03-200-001-001 Eddy Current of the bore, and 72-21-03-200-001-001 Ultrasonic Inspection of Dovetail Slots.
HPTR Disk, Stage 1 | All | 72-53-02-200-001-002 Fluorescent Penetrant Inspection (subtask 72-53-02-160-051), and 72-53-02-200-001-002 Eddy Current Inspection of the Bore.
HPTR Disk, Stage 2 | All | 72-53-04-200-001-004 Fluorescent Penetrant Inspection (subtask 72-53-04-230-052), and 72-53-04-200-001-004 Eddy Current Inspection of the Bore.
LPTR Cone Shaft | All | 72-56-07-200-001-001 Fluorescent Penetrant Inspection.
LPTR Fan Mid Shaft | All | 72-58-01-200-001-001 Magnetic Particle Inspection.
LPTR Disk, Stage 1 | All | 72-56-02-200-001-001 Fluorescent Penetrant Inspection.
LPTR Disk, Stage 2 | All | 72-56-02-200-001-001 Fluorescent Penetrant Inspection.
LPTR Disk, Stage 3 | All | 72-56-02-200-001-001 Fluorescent Penetrant Inspection.
LPTR Disk, Stage 4 | All | 72-56-02-200-001-001 Fluorescent Penetrant Inspection.
LPTR Disk, Stage 5 | All | 72-56-02-200-001-001 Fluorescent Penetrant Inspection.
LPTR Disk, Stage 6 | All | 72-56-02-200-001-001 Fluorescent Penetrant Inspection.
Fan Shaft, Forward | All | 72-22-01-200-001-001 Fluorescent Penetrant Inspection.

(2) For the purposes of these mandatory inspections, piece-part opportunity means:

(i) The part is considered completely disassembled when accomplished in accordance with the disassembly instructions in the manufacturer's engine manual; and

(ii) The part has accumulated more than 100 cycles in service since the last piece-part opportunity inspection, provided that the part was not damaged or related to the cause for its removal from the engine.”

(b) Except as provided in paragraph (c) of this AD, and notwithstanding contrary provisions in section 43.16 of the Federal Aviation Regulations (14 CFR 43.16), these mandatory inspections must be performed only in accordance with the Life Limits Section of the manufacturer's ICA.

Alternative Methods of Compliance

(c) An alternative method of compliance or adjustment of the compliance time that provides an acceptable level of safety may be used if approved by the Engine Certification Office (ECO). Operators must submit their requests through an appropriate FAA Principal Maintenance Inspector (PMI), who may add comments and then send it to the ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the airplane to a location where the requirements of this AD can be done.

Continuous Airworthiness Maintenance Program

(e) FAA-certificated air carriers that have an approved continuous airworthiness maintenance program in accordance with the record keeping requirement of § 121.369 (c) of the Federal Aviation Regulations (14 CFR 121.369 (c)) of this chapter must maintain records of the mandatory inspections that result from revising the Life Limits Section of the ICA and the air carrier's continuous airworthiness program. Alternatively, certificated air carriers may establish an approved system of record retention that provides a method for preservation and retrieval of the maintenance records that include the inspections resulting from this AD, and include the policy and procedures for implementing this alternate method in the air carrier's maintenance manual required by § 121.369 (c) of the Federal Aviation Regulations (14 CFR 121.369 (c)); however, the alternate system must be accepted by the appropriate PMI and require the maintenance records be maintained either indefinitely or until the work is repeated. Records of the piece-part inspections are not required under § 121.380 (a) (2) (vi) of the Federal Aviation Regulations (14 CFR 121.380 (a) (2) (vi)). All other Operators must maintain the records of mandatory inspections required by the applicable regulations governing their operations.

Note 3: The requirements of this AD have been met when the engine manual changes are made and air carriers have modified their continuous airworthiness maintenance plans to reflect the requirements in the engine manuals.

Effective Date

(f) This amendment becomes effective on April 8, 2002.

Issued in Burlington, Massachusetts, on February 21, 2002.
Jay J. Pardee,
Manager, Engine and Propeller Directorate, Aircraft Certification Service.

[FR Doc. 02-5003 Filed 3-1-02; 8:45 am]

BILLING CODE 4910-13-U